FEDERAL MARITIME COMMISSION

[Petition No. P6-04]

Petition of China Shipping Container Lines (Hong Kong) Co., Ltd., for an Exemption From the First Sentence of Section 9(c) of the Shipping Act; Notice of Filing

Notice is hereby given that China Shipping Container Lines (Hong Kong) Co., Ltd. (“Petitioner”), a controlled carrier as that term is defined by the Shipping Act of 1984, has petitioned, pursuant to section 16 of the Shipping Act of 1984, 46 U.S.C. app. 1715, and 46 CFR 502.69, for an exemption from the first sentence of section 9(c) of the 1984 Act, 46 U.S.C. app. 1708(c).¹ Petitioner seeks an exemption so that it may reduce its tariff rates upon publication.²

¹ China Shipping Container Lines (Hong Kong) Co., Ltd. is a wholly owned subsidiary of China Shipping Container Lines Co. Ltd. (“CSCL”). On April 1, 2004 the Commission issued an Order in Petition No. P4-03, granting CSCL an exemption like that now sought by Petitioner—an exemption from the first sentence of section 9(c) of the 1984 Act.

² The Petitioner, to date, has operated only outside of the United States' trades. Petitioner advises that it will commence operations in the U.S. trades on or about January 1, 2005.

In order for the Commission to make a thorough evaluation of the Petition, interested persons are requested to submit views or arguments in reply to the Petition no later than December 6, 2004. Replies shall consist of an original and 15 copies, be directed to the Secretary, Federal Maritime Commission, 800 North Capitol Street, NW., Washington, DC 20573-0001, and be served on Petitioner's counsel, Brett M. Esber, Esq., Blank Rome LLP, Watergate 600 New Hampshire Avenue, NW., Washington, DC 20037. It is also requested that a copy of the reply be submitted in electronic form (WordPerfect, Word or ASCII) on diskette or e-mailed to Secretary@fmc.gov.

Copies of the petition are available at the Office of the Secretary of the Commission, 800 N. Capitol Street, NW., Room 1046. A copy may also be obtained by sending a request to secretary@fmc.gov or by calling (202) 523-5725. Parties participating in this proceeding may elect to receive service of the Commission's issuances in this proceeding through e-mail in lieu of service by U.S. mail. A party opting for electronic service shall advise the Office of the Secretary in writing and provide an e-mail address where service can be made. Such request may be directed to secretary@fmc.gov.

Bryant L. VanBrakle,
Secretary.

[FR Doc. 04-25770 Filed 11-19-04; 8:45 am]

BILLING CODE 6730-01-P